DEPARTMENT OF COMMERCE

Economic Development Administration

Notice of Petitions by Producing Firms for Determination of Eligibility To Apply for Trade Adjustment Assistance

AGENCY: Economic Development Administration (EDA).

ACTION: Notice.

Petitions have been accepted for filing on the dates indicated from the firms listed below.

List of Petition Action By Trade Adjustment Assistance for Period September 25, 2002-October 18, 2002
Firm name | Address | Date petition accepted | Product
Slocum Adhesives Corporation | 2500 Carroll Avenue, Lynchburg, VA 24501 | 10/01/02 | Adhesive use in the footwear and furniture industry.
Gilchrist Metal Faricating Co., Inc | 18 Park Avenue, Hudson, NH 03051 | 10/01/02 | Frames for electronic photo typesetting machines.
R.P. Adams Company, Inc | P.O. Box 963, Buffalo, NY 14240 | 10/02/02 | Filtration and heat exchange machinery.
Dynomach Inc | 1146 Commercial Dr., Port Allen, LA 70767 | 10/04/02 | Oil and gas machine parts.
Xenetech Global, Inc | 12139 Airline Hwy., Baton Rouge, LA 70817 | 10/15/02 | Engraving machines.
Willacy Co-Op | P.O. Box 795, Raymondville, TX 76577 | 10/16/02 | Cotton fibers.
New Hampshire Stamping Co., Inc | 9 Lance Lane, Goffstown, NH 03051 | 10/18/02 | Stamped metal bird feeder parts, protective eyewear, appliance parts and heat sinks.
East Coast Machining, Inc | 150 Airport Drive, Westminster, MD 21157 | 10/18/02 | Precision parts for filtration housings for the telecommunications industry.
Elk Metals, Inc | 201 Stackpole Street, St. Mary's, PA 15857 | 10/18/02 | Powdered metal parts for the automotive industry.
Councill Craftsmen, Inc | 1156 N. Main Street, Denton, NC 27239 | 10/18/02 | Upholstered household wooden furniture.
L & D Industries, Inc | 740 Grit Road, Hurt, VA 24563 | 10/18/02 | Screws from bar stock for commercial and industrial use.
All Precision Manufacturing, Inc | 153 N. 5th Street, Nokomis, IL 62075 | 10/18/02 | Machined metal components for pressure relief valves.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: October 25, 2002.
Anthony J. Meyer,
Coordinator, Trade Adjustment and Technical Assistance.

[FR Doc. 02-27957 Filed 11-1-02; 8:45 am]

BILLING CODE 3510-24-P